ENVIRONMENTAL PROTECTION AGENCY

[FRL-10768-01-R6]

Clean Air Act Operating Permit Program; Petition for Objection to State Operating Permit for Georgia-Pacific Consumer Operations LLC, Crossett Paper Operations, Ashley County, Arkansas

AGENCY: Environmental Protection Agency (EPA).

ACTION: Notice of final Order on Petition for objection to Clean Air Act title V operating permit.

SUMMARY: The Environmental Protection Agency (EPA) Administrator signed an Order dated February 22, 2023, granting in part and denying in part two Petitions dated February 19, 2018 and October 30, 2019 (collectively the Petitions) from Crossett Concerned Citizens for Environmental Justice (the Petitioners). The Petitions requested that the EPA Administrator object to a Clean Air Act (CAA) title V operating permit issued by the Arkansas Department of Environmental Quality (ADEQ) to Georgia-Pacific Consumer Operations LLC (Georgia-Pacific) for its Crossett Paper Operations located in Ashley County, Arkansas.

ADDRESSES: The EPA requests that you contact the individual listed in the FOR FURTHER INFORMATION CONTACT section to view copies of the final Order, the Petition, and other supporting information. Out of an abundance of caution for members of the public and our staff, the EPA Region 6 office may be closed to the public to reduce the risk of transmitting COVID-19. Please call or email the contact listed below if you need alternative access to the final Order and Petition, which are available electronically at: https://www.epa.gov/title-v-operating-permits/title-v-petition-database.

FOR FURTHER INFORMATION CONTACT: Jonathan Ehrhart, EPA Region 6 Office, Air Permits Section, (214) 665-2295, ehrhart.jonathan@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the State, unless the petitioner demonstrates that it was impracticable to raise these issues during the comment period or unless the grounds for the issue arose after this period.

The EPA received two petitions from Crossett Concerned Citizens for Environmental Justice dated February 19, 2018 and October 30, 2019 (collectively the Petitions), requesting that the EPA Administrator object to the issuance of operating permit No. 0597-AOP-R19, issued by ADEQ to the Georgia-Pacific Consumer Operations, LLC for its Crossett Paper Operations located in Ashley County, Arkansas. The Petitions claim that the ADEQ unlawfully circumvented the public's right to a full 60-day petition period, that ADEQ's permit does not comply with the CAA's substantive requirements, and that the permit fails to incorporate a compliance schedule as the CAA requires.

On February 22, 2023, the EPA Administrator issued an Order granting in part and denying in part the Petitions. The Order explains the basis for EPA's decision.

Sections 307(b) and 505(b)(2) of the CAA provide that a petitioner may request judicial review of those portions of an order that deny issues in a petition. Any petition for review shall be filed in the United States Court of Appeals for the appropriate circuit no later than May 15, 2023.

Dated: March 8, 2023.
David Garcia,
Director, Air and Radiation Division, Region 6.

[FR Doc. 2023-05261 Filed 3-14-23; 8:45 am]

BILLING CODE 6560-50-P